DEPARTMENT OF COMMERCE

International Trade Administration

Transportation and Energy Products and Services Trade Mission; Doha, Qatar, and Abu Dhabi and Dubai, U.A.E.

I. Mission Description

The United States Department of Commerce's International Trade Administration U.S. and Foreign Commercial Service (US&FCS) is organizing an executive-led trade mission for multi-modal transportation and energy infrastructure development products and services to Qatar, Abu Dhabi, and Dubai, June 5-10, 2011. This mission will be led by an executive level trade official. The mission is designed to contribute to President Obama's National Export Initiative to achieve the goal of doubling exports over the next five years to support two million American jobs. This mission will support job creation by increasing exports of products and services that contribute to these infrastructure development projects in these locations.

This mission will allow U.S. executives to connect with key decision makers in the U.A.E. and Qatar, and form partnerships which will allow their companies to expand in to new markets. The mission will include, but is not limited to: Advanced vehicle technologies and intelligent transportation systems and related services and software; multimodal transportation systems, products and technologies, including port development, supply chain systems and strategies; energy products and services; smart grid technologies; mass transportation systems; and other relevant products and services.

Commercial Setting U.A.E.

The U.A.E. is the largest export market in the Middle East/North Africa region, and presents qualified American companies with opportunities to expand their products and services to a fast growing market. The 2009 GDP for the U.A.E. was $231.3 billion and the 2009 per capita income was $42,000. Despite last year's global financial crisis, the U.S. and the U.A.E. have continued their long-term trade and investment relationship. Exports between both countries have increased almost every year since 1971, when the U.A.E was established.

The U.S. exported over $12 billion worth of products to the U.A.E. in 2009, representing a 237 percent increase since 2002. The U.S. is the third largest exporter to the U.A.E. and enjoys a very large trade surplus and a strong trading and investment relationship. The U.A.E. has become the regional leader in the Middle East in terms of openness to international trade and investment and political stability. It is making major investments in infrastructure and in diversification of its economy away from oil and gas, resulting in significant export opportunities for U.S. firms. The U.A.E. is developing key transportation infrastructure projects including: Port Khalifa and industrial zone at Taweelah; the new $8 billion Union Railway project; the $6.7 billion expansion of Abu Dhabi International Airport; the construction of the new Maktoum Airport, which will eventually have five runways; and public transportation systems, such as the expansion of the Dubai metro and the construction of the Abu Dhabi metro and light rail. The need to develop the infrastructure necessary for the construction and profitable operation of these new systems, particularly those related to multi-modal freight and intelligent supply chain management, provides significant business opportunities in areas where U.S. companies excel.

U.S. products enjoy favorable tariffs that generally do not exceed five percent.¹ U.S. business opportunities also exist in alternative energy products and services. The government and private sector of Abu Dhabi have growing interest in sustainable energy production and established the Abu Dhabi Future Energy Company (Masdar). The U.A.E. has recognized the need to increase the use of non-fossil fuel based energy resources such as solar and nuclear. This will likely increase the need for alternative energy products and services.

¹ World Trade Organization: Latest Available MFN Applied Tariffs At HS 6 (2007).

Qatar

Qatar is an important export market for U.S. small and medium size businesses. The U.S. exported $2.7 billion worth of goods and services in 2009, making the U.S. the second largest exporter to the Emirates.

Qatar has a 2009 GDP of $57.69 billion and a GDP-per capita of $75,900, which is one of the highest per capita incomes in the world. This has led foreign firms to increase their investment in Qatar's infrastructure and making it one of the most prosperous markets in the Middle East.

The current economic development environment in Qatar offers great opportunities for U.S. firms to expand their business. Qatar's transportation infrastructure is the main sector benefiting from the current domestic growth environment. Their mass transportation structure has been operating at capacity, with a strong need to expand the system. Qatar does not have any railroads, which is one of the major reasons for heavy road congestion throughout the country. There is a great opportunity for U.S. engineers and manufacturers to contribute in the effort to create a rail lines and improve traffic safety throughout the Emirate.

Qatar is a natural gas focused economy. Most natural gas projects are completed or will be in a short period of time. The U.S. presence in this sector is significant and the standards adopted by the country are all U.S. Qatar is on the radar screen of U.S. energy companies and Qatari companies go to the U.S. to source their needs for the energy sector. Major exceptions to opportunities in the energy sector in Qatar involve alternative energy products and services including nuclear, wind, and solar products and services, which are not included within the scope of this mission.

Other Products and Services

The foregoing analysis of export opportunities in the U.A.E. and Qatar is not intended to be exhaustive, but illustrative of the many opportunities in these markets available to U.S. businesses. Other products and services that contribute to the energy and infrastructure development of the U.A.E. and Qatar also may have great potential. Applications from companies selling products within the scope of this mission, but not specifically identified in this Mission Statement, will be considered and evaluated by the U.S. Department of Commerce, along with all other applications to participate in this mission. Companies whose products do not fit the scope of mission may contact their local U.S. Export Assistance Center (USEAC) to learn about other trade missions and services that may provide more targeted export opportunities. Companies may call 1-800-872-8723, or e-mail: tic@trade.gov to obtain such information. This information also may be found on the Department's Web site: http://www.export.gov.

II. Mission Goals

The trade mission's goal is to introduce U.S. exporters of transportation and energy products and services to potential end-users and partners, including potential agents, distributors, and licensees. The mission's goal is to facilitate business partnerships and provide participants with market information about the local infrastructure that will contribute to increasing U.S. exports to the U.A.E. and Qatar markets. The trade mission's purpose is to advance ITA's goal to broaden and deepen the U.S. exporter base and support the President's National Export Initiative by providing individual participants with business opportunities to achieve export success in these markets.

III. Mission Scenario

In each market, U.S. mission members will be presented with a briefing by the U.S. Embassy's Counselor for Commercial Affairs, the Senior Commercial Specialist for the energy, transportation, and infrastructure sectors and other key U.S. Government and corporate officials. Participants also will take part in business matchmaking appointments with pre-screened private-sector organizations. In addition, they will attend a networking event with multipliers. U.S. participants will be counseled before and after the mission by a domestic mission coordinator. This includes the following:

• Pre-travel briefing/webinars on subjects ranging from business practices in each market to security considerations involving mission related travel.

• Travel from Doha to Abu Dhabi will be by commercial air at traveler's expense. Mission participants will be notified which flight to reserve.

• On site staff assistance.

Exclusions: The mission fee does not include any personal travel expenses such as lodging, most meals, local ground transportation, except as stated above, and air transportation from the U.S. to the mission sites and return to the U.S. Business visas may be required. Government fees and processing expenses to obtain such visas are also not included in the mission costs. However, the U.S. Department of Commerce will provide instructions to each participant on the procedures required to obtain necessary business visas.

IV. Proposed Timetable

Mission participants are encouraged to arrive on or before June 4, 2011 and the mission program will proceed from June 5-10, 2011.

June 3 or 4 | Arrive in Doha, Qatar.
June 5 | Doha, Qatar.
| Market briefings by U.S. Embassy, Doha and Qatar Government officials.
| One-on-one business matchmaking appointments.
| Networking reception.
June 6 | Doha, Qatar.
| Matchmaking appointments.
| Travel to Abu Dhabi, U.A.E.
June 7 | Abu Dhabi, U.A.E.
| Market briefings by U.S. Consulate Officials.
| One-on-one business matchmaking appointments.
| Networking reception.
June 8 | Abu Dhabi, U.A.E.
| One-on-one business matchmaking appointments.
| Travel to Dubai, U.A.E.
| Possible networking reception in Dubai.
June 9 | Dubai, U.A.E.
| One-on-one business matchmaking appointments.
| Possible networking reception.
June 10 | Dubai, U.A.E.
| Follow-up meetings and appointments.
| Return Home.

V. Participation Requirements

All applicants will be evaluated on their ability to meet certain conditions and best satisfy the selection criteria as outlined below. The mission is designed to select a minimum of 12 and a maximum of 18 companies to participate in the mission from the applicant pool. U.S. companies already doing business in the target markets, as well as U.S. companies seeking to enter these markets for the first time, are encouraged to apply.

Fees and Expenses: After a company has been selected to participate on the mission, a payment to the Department of Commerce in the form of a participation fee is required. The participation fee will be $4,400 for large firms and $3,500 for a small or medium-sized enterprise (SME) ², which will cover one representative. The fee for each additional firm representative (large firm or SME) is $500. Expenses for travel, lodging, most meals, and incidentals will be the responsibility of each mission participant.

² An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation:

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Recruitment activities will include, but not limited to Internet Web sites, press releases to general and trade media, direct mail, notices by industry trade associations and other multiplier groups, and publicity at industry meetings, symposia, conferences, and trade shows.

Selection Criteria for Participation

• Suitability of the company's products or services to the U.A.E and Qatar markets.

• Consistency of the applicant's goals and objectives with the scope and design of the mission.

• Applicant's potential for business in the U.A.E and Qatar, including likelihood of exports resulting from the mission.

Diversity of company size, type, location, and demographics also may be considered during the review process. Referrals from political organizations and any documents containing references to partisan political activities (including political contributions) will be removed from an applicant's submission and not considered during the selection process.

Selection Timeline

Mission recruitment will be conducted in an open and public manner, including publication in the Federal Register, posting on the Commerce Department trade mission calendar— http://www.ita.doc.gov/doctm/tmcal.html—and other Internet web sites, press releases to general and trade media, direct mail, broadcast fax, notices by industry trade associations and other multiplier groups, and publicity at industry meetings, symposia, conferences, and trade shows.

Recruitment for the mission will begin immediately, and conclude March 4, 2011, unless extended by the Department of Commerce. Applications received after March 4, 2011, will be considered only if space and scheduling constraints permit.

Contacts: Larry Brill, U.S. Commercial Service Domestic Contact: Phone: (202) 482-1856, Fax: (202) 482-2331, E-mail: Lawrence.Brill@trade.gov.

U.S. Commercial Service Qatar Contact: Dao Lee, U.S. Commercial Service, Doha, Qatar, Tel: 011- 974-488-4101/Fax: 011-974-488-4163, E-mail: Dao.Lee@trade.gov.

U.S. Commercial Service Qatar Contact: Ms. Laurie Farris, U.S. Commercial Service, Abu Dhabi, UAE, Phone: 011-971-2-414-2668, Fax: 011-971-2-414-2228, E-mail: Laurie.Farris@trade.gov.

Clarance E. Burden,
US & FCS Senior Budget Analyst, Commercial Service Trade Missions Program.

[FR Doc. 2010-27249 Filed 10-27-10; 8:45 am]

BILLING CODE P